DEPARTMENT OF THE INTERIOR

National Park Service

[NPS-PWR-PWRO-0322-7019; 2031-A038-409]

Draft Environmental Impact Statement for General Management Plan for Golden Gate National Recreation Area and Muir Woods National Monument, Counties of Marin, San Francisco, and San Mateo, CA

AGENCY: National Park Service, Interior.

ACTION: Notice of Availability of the Draft Environmental Impact Statement/General Management Plan for Golden Gate National Recreation Area and Muir Woods National Monument.

SUMMARY: In accord with § 102(2)(C) of the National Environmental Policy Act of 1969, and pursuant to the Council on Environmental Quality's regulations (40 CFR parts 1500-08), the National Park Service has prepared a Draft Environmental Impact Statement (Draft EIS) for the updating the General Management Plan (GMP) for Golden Gate National Recreation Area and Muir Woods National Monument. The Draft EIS/GMP evaluates four alternatives for managing Golden Gate National Recreation Area and Muir Woods, and upon approval the GMP would serve as a blueprint to guide management of these units of the National Park System over the next 15-20 years.

Background: Established in 1972 to bring “parks to the people”, until now Golden Gate National Recreation Area (GGNRA) has been operating under its first GMP, approved in 1980. During the 30 years since the GMP was approved, GGNRA has doubled in size, visitation now approaches 16 million annually. The management staff has gained a better understanding of the natural and cultural resources of the park and the many recreational uses that occur within the park areas. Muir Woods was declared a national monument in 1908 and is currently managed as part of GGNRA.

Public scoping was initiated in the spring of 2006. The Notice of Intent to prepare an EIS was published in the Federal Register on March 29, 2006. Five public scoping meetings were held in the area; approximately 300 participants overall provided relevant information which was duly considered in preparing preliminary alternatives. The preliminary alternatives were initially reviewed with the public at meetings held in June, 2008 (over 1,500 substantive comments were collected). Additionally, numerous coordination meetings were conducted with local agencies and partner organizations. An update on the evolving preferred alternative was provided to the public in the summer, 2009.

Proposal and Alternatives: As noted, the Draft GMP/EIS describes and analyzes four alternatives. The no-action alternative consists of the existing park management and serves as a basis for comparison in evaluating the other alternatives.

Alternative 1, “Connecting People with the Parks,” would further the founding idea of “parks to the people” and would engage the community and other visitors in the enjoyment, understanding, and stewardship of the park's resources and values. Park management would focus on ways to attract and welcome people, connect people with the resources, and promote understanding, enjoyment, preservation, and health. Alternative 1 is the “agency-preferred” alternative for managing most park lands in Marin, San Francisco, and San Mateo Counties.

Alternative 2, “Preserving and Enjoying Coastal Ecosystems,” would place an emphasis on preserving, enhancing, and promoting the dynamic and interconnected coastal ecosystems in which marine resources are valued and prominently featured. Recreational and educational opportunities would allow visitors to learn about and enjoy the ocean and bay environments, and gain a better understanding of the region's international significance and history.

Alternative 3, “Focusing on National Treasures,” would place an emphasis on the park's nationally important natural and cultural resources. The fundamental resources of each showcased site would be managed at the highest level of preservation to protect the resources in perpetuity and to promote appreciation, understanding, and enjoyment of those resources. Visitors would have the opportunity to explore locally the wide variety of experiences that are associated with many different types of units of the National Park System. All other resources would be managed to complement the nationally significant resources and associated visitor experiences. Alternative 3 is the “agency-preferred” alternative for Alcatraz Island and Muir Woods National Monument.

As presented in the Draft EIS/GMP, Alternative 1 is the “environmentally preferred” course of action for lands in Marin, San Francisco, and San Mateo Counties. Alternative 3 is “environmentally preferred” for Muir Woods NM and Alcatraz Island.

Comments: Park stakeholders, interested organizations, and the public are encouraged to provide written comments on issues and concerns addressed in the Draft EIS/GMP, suggest refinements in alternatives, and provide information about potential environmental effects and appropriate mitigation measures that would reduce potential impacts. To afford a timely opportunity to obtain information, several public meetings will be hosted (dates and locations of the meetings will be announced on the project Web site http://parkplanning.nps.gov/goga, via local and regional press media, and in a mailed announcement to be distributed to the GMP mailing list. All written comments must be postmarked or transmitted not later than 60 days after publication of the Environmental Protection Agency's notice of filing in the Federal Register—as soon as this ending date is confirmed it will be announced on the project Web site and via local and regional press media.

An electronic version of the Draft EIS/GMP will be available for public review on the project Web site, and a limited number of CDs and printed copies will be made available at park headquarters. Printed or CD copies may also be requested by contacting Golden Gate National Recreation Area, Fort Mason, Building 201, San Francisco, CA 94123; telephone (415) 561-4930.

Persons wishing to comment on the Draft GMP/EIS may respond by any one of several methods. Comments may be transmitted electronically via the project Web site; or mailed to Golden Gate National Recreation Area, Attention: DGMP/EIS, at the address listed above; or presented in person at public meetings or hand-delivered at the above address. Before including your address, phone number, e-mail address, or other personal identifying information in your comment, you should be aware that your entire comment—including your personal identifying information—may be made publicly available at any time. While you can ask us in your comment to withhold your personal identifying information from public review, we cannot guarantee that we will be able to do so.

Decision Process: Availability of the Draft EIS/GMP for a 60-day public review will be formally announced through publication of this Notice of Availability, through local and regional news media, via the project Web site, and direct mailing to the project mailing list. Following due consideration of all public and agency comments, a Final EIS/GMP will be prepared. As a delegated EIS the official responsible for approval of the GMP is the Regional Director, Pacific West Region. Subsequently the official responsible for implementing the new GMP would be the General Superintendent, Golden Gate National Recreation Area.

Dated: March 18, 2011.
Christine S. Lehnertz,
Regional Director. Pacific West Region.

Editorial Note: This document was received at the Office of the Federal Register September 6, 2011.

[FR Doc. 2011-23162 Filed 9-9-11; 8:45 am]

BILLING CODE 4310-70-P